DEPARTMENT OF HOUSING AND URBAN DEVELOPMENT

[Docket No. FR-5683-N-100]

Notice of Emergency Approval of an Information Collection: Regional Analysis of Impediments Guidance for Sustainable Communities Grantees

AGENCY: Office of the Chief Information Officer, HUD.

ACTION: Notice.

SUMMARY: In accordance with the Paperwork Reduction Act of 1995, HUD has requested from the Office of Management and Budget (OMB) emergency approval of the information collection described in this notice.

DATES: Comments Due Date: November 18, 2013.

ADDRESSES: Interested persons are invited to submit comments regarding this proposal. Comments should refer to the proposal by name and/or OMB Control Number and should be sent to: HUD Desk Officer, Office of Management and Budget, New Executive Office Building, Washington, DC 20503; fax: 202-395-5806. Email: OIRA_Submission@omb.eop.gov.

FOR FURTHER INFORMATION CONTACT: Lynnette McRae, Grants Management Specialist, Office of Sustainable Housing and Communities, Department of Housing and Urban Development, 451 7th Street SW., Washington, DC 20410; email Lynnette McRae at lynnette.mcrae@hud.gov or telephone 202-402-2102. This is not a toll-free number. Persons with hearing or speech impairments may access this number through TTY by calling the toll-free Federal Relay Service at (800) 877-8339. Copies of available documents submitted to OMB may be obtained from Ms. McRae.

SUPPLEMENTARY INFORMATION: This notice informs the public that HUD has submitted to OMB a request for approval of the information collection described in Section A.

A. Overview of Information Collection

Title of Information Collection: Regional Analysis of Impediments Guidance for Sustainable Communities Grantees.

OMB Approval Number: N/A.

Type of Request: New Collection.

Form Number: N/A.

Description of the need for the information and proposed use: HUD's Office of Sustainable Housing and Communities presently requires all Sustainable Communities Initiative (SCI) Regional Planning grantees to complete a Fair Housing Equity Assessment . The grantees each have the option of choosing to develop a Regional Analysis of Impediments (AI) in lieu of the FHEA, which (if prepared in accordance with the standards set forth below and in the Fair Housing Planning Guide) would fulfill the FHEA requirement as well as the HUD AFFH regulatory requirement for any participating jurisdiction or state that signed on. The option to prepare a regional AI also offers SCI grantees an opportunity to develop more meaningful deliverables while conserving resources and reducing duplication. This guidance, a written product reflecting the information shared in the 2012 online webinars, will assist grantees in structuring their fair housing analyses.

Respondents: Sustainable Communities Regional Planning Grantees.

Information collection | Number of respondents | Frequency of response | Responses per annum | Burden hour per response | Annual burden hours | Hourly cost per response | Annual cost
Total | 40 | Every 5 years | 8 | 200 | 1600 | $40 | $64,000

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: November 8, 2013.
Anna Guido,
Department Reports Management Officer, Office of the Chief Information Officer.

[FR Doc. 2013-27256 Filed 11-13-13; 8:45 am]

BILLING CODE 4210-67-P